DEPARTMENT OF THE INTERIOR

Fish and Wildlife Service

Notice of Intent To Prepare a Comprehensive Conservation Plan and Environmental Assessment for the Handy Brake National Wildlife Refuge and the Louisiana Wetland Management District

AGENCY: Fish and Wildlife Service, Interior.

ACTION: Notice of intent.

SUMMARY: The Fish and Wildlife Service, Southeast Region, intends to gather information necessary to prepare a comprehensive conservation plan and environmental assessment pursuant to the National Environmental Policy Act of 1969 and its implementing regulations.

The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge system, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: An open house style meeting will be held during the scoping phase and public draft phase of the comprehensive conservation plan development process. Special mailings, newspaper articles, and other media announcements will be used to inform the public and state and local government agencies of the dates and opportunities for input throughout the planning process. The planning process for the Louisiana Wetland Management District and Handy Brake National Wildlife Refuge will be conducted in conjunction with each other.

ADDRESSES: Comments and requests for more information regarding the Louisiana Wetland Management District planning process should be sent to Lindy Garner, Planning Biologist, North Louisiana National Wildlife Refuge Complex, 11372 Highway 143, Farmerville, Louisiana 71241; Telephone: (318) 726-4222 x5; Fax: (318) 726-4667; Electronic-mail: northlarefuges@fws.gov. To ensure consideration, written comments must be received no later than November 25, 2005.Our practice is to make comments, including names and addresses of respondents, available for public review during regular business hours. Individual respondents may request that we withhold their home addresses from the record, which we will honor to the extent allowable by law.

SUPPLEMENTARY INFORMATION: The Louisiana Wetland Management District was established in September 1990 “* * * for conservation purposes * * *” 7 U.S.C. 2002 (Consolidated Farm and Rural Development Act). Most of the 37 Farm Service Agency easements, 10 fee title tracts, and 4 leases are concentrated in northeastern Louisiana. In 1988, the first fee title transfer of a Farm Service Agency tract in the Southeast Region resulted in the establishment of Handy Brake National Wildlife Refuge. The wetland management district currently oversees Fish and Wildlife Service interests on about 10,000 acres. This refuge is combined with D'Arbonne, Upper Ouachita, Black Bayou Lake, and Red River National Wildlife Refuges to form the North Louisiana National Wildlife Refuge Complex. The wetland management district encompasses several parishes in the northern half of Louisiana: Natchitoches, Grant, Richland, Morehouse, West Carroll, and East Carroll.

Habitat management within the wetland management district focuses primarily on reforestation of marginal agricultural areas and development and maintenance of moist-soil units. Mowing, discing, burning, and/or spraying is periodically required to maintain early successional stages.

The varied habitat on lands within the wetland management district provide for a diverse array of wildlife. Bald eagles and peregrine falcons are known to occur on the district. Both are usually associated with large waterfowl concentrations. Small concentrations (<1,000) of waterfowl are seen on the easement tracts and on Handy Brake Refuge, depending upon the availability of water. Migratory songbirds also use several of the tracts and Handy Brake Refuge. Resident furbearers include fox, gray squirrels, rabbits, deer, beaver, and raccoon.

There are limited wildlife observation opportunities at Handy Brake Refuge and other fee title tracts within the Louisiana Wetland Management District. The observation tower at Handy Brake Refuge had approximately 3,200 visitors during 2002.

A few potential issues to be reviewed during the planning process include water manipulation, beaver control throughout the district, and control of undesirable plant species, such as willow, cocklebur, and Sesbania. Control methods in the past included mechanical means, water level manipulation, and spraying.

The Service will conduct a comprehensive conservation planning process that will provide opportunity for State and local governments, agencies, organizations, and the public to participate in issue scoping and public comment. Comments received by the planning team will be used as part of the planning process.

Authority: This notice is published under the authority of the National Wildlife Refuge System Improvement Act of 1997, Public Law 105-57.

Dated: September 7, 2005.
Cynthia K. Dohner,
Acting Regional Director.

[FR Doc. 05-20318 Filed 10-7-05; 8:45 am]

BILLING CODE 4310-55-M